ENVIRONMENTAL PROTECTION AGENCY

[EPA-HQ-OAR-2009-0911; FRL-9115-2]

Agency Information Collection Activities; Proposed Collection; Comment Request; EPA-ICR No. 1774.05—Mobile Air Conditioner Retrofitting Program, OMB Control No. 2060-0350

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on July 31, 2010. Before submitting the ICR to OMB for review and approval, EPA is soliciting comments on specific aspects of the proposed information collection as described below.

DATES: Comments must be submitted on or before April 23, 2010.

ADDRESSES: Submit your comments, identified by Docket ID No. EPA-HQ-OAR-2009-0911 by one of the following methods:

• http://www.regulations.gov: Follow the on-line instructions for submitting comments.

• E-mail: a-and-r-Docket@epa.gov.

• Fax: 202-566-1741.

• Mail: Environmental Protection Agency, EPA Docket Center (EPA/DC) Mailcode 6102T, Attention Docket ID No. OAR, 1200 Pennsylvania Avenue, NW., Washington, DC 20460.

• Hand Delivery: Public Reading Room, Room 3334, EPA West Building, 1301 Constitution Avenue, NW., Washington, DC.

Such deliveries are only accepted during the Docket's normal hours of operation, and special arrangements should be made for deliveries of boxed information.

Instructions: Direct your comments to Docket ID No. EPA-HQ-OAR-2009-0911. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Yaidi Cancel, Environmental Protection Agency, Stratospheric Protection Division, Office of Atmospheric Programs, MC 6205J, 1200 Pennsylvania Ave., NW., Washington, DC 20460; telephone number: (202) 343-9512; fax number: (202) 343-2338; e-mail address: Cancel.Yaidi@epa.gov.

SUPPLEMENTARY INFORMATION:

How Can I Access the Docket and/or Submit Comments?

EPA has established a public docket for this ICR under Docket ID No. EPA-HQ-OAR-2009-0911, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply To?

Docket ID No. EPA-HQ-OAR-2009-0911

Affected entities: Entities potentially affected by this action are new and used car dealers, gas service stations, top and body repair shops, general automotive repair shops, automotive repair shops not elsewhere classified, including air conditioning and radiator specialty shops.

Title: Information Collection Activities Associated with EPA's Mobile Air Conditioner Retrofitting Program, 40 CFR 82.180

ICR numbers: EPA ICR No. 1774.05, OMB Control No. 2060-0350.

ICR status: This ICR is currently scheduled to expire on July 31, 2010. An Agency may not conduct or sponsor, and a person is not required to respond to, a collection of information, unless it displays a currently valid OMB control number. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Significant New Alternatives Policy (SNAP) program implements Section 612 of the 1990 Clean Air Act (CAA) Amendments which authorized the Agency to establish regulatory requirements to ensure that ozone-depleting substances (ODS) are replaced by alternatives that reduce overall risks to human health and the environment, and to promote an expedited transition to safe substitutes. To promote this transition, CAA specified that EPA establish an information clearinghouse of available alternatives, and coordinate with other Federal agencies and the public on research, procurement practices, and information and technology transfers.

Since the program's inception in 1994, SNAP has reviewed over 400 new chemicals and alternative manufacturing processes for a wide range of consumer, industrial, space exploration, and national security applications. Roughly 90% of alternatives submitted to EPA for review have been listed as acceptable for a specific use, typically with some condition or limit to minimize risks to human health and the environment.

Regulations promulgated under SNAP require that Motor Vehicle Air Conditioners (MVACs) retrofitted to use a SNAP substitute refrigerant include basic information on a label to be affixed to the air conditioner. The label includes the name of the substitute refrigerant, when and by whom the retrofit was performed, environmental and safety information about the substitute refrigerant, and other information. This information is needed so that subsequent technicians working on the MVAC system will be able to service the equipment properly, decreasing the likelihood of significant refrigerant cross-contamination and potential failure of air conditioning systems and recovery/recycling equipment.

Burden Statement: The annual public reporting and recordkeeping burden for this collection of information is estimated to average 5 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 6,500.

Frequency of response: Once per a retrofit done on a motor vehicle air conditioner.

Estimated total annual burden hours: 1,500 hours.

Estimated total annual costs: $205,000 which includes an estimated burden cost of $100,000 for recordkeeping and an estimated cost of $105,000 for capital investment or maintenance and operational costs.

The U.S. Department of Labor statistics indicated from the most current available data that there are approximately 650,000 automotive service technicians and mechanics (SOC Code Number 49-3023) in the US. Data from the Motor Air Conditioning Society (MACS) Worldwide, estimated that the mobile air conditioning service industry has over 170,000 service providers and over 600,000 technicians (MACS, 2008). EPA estimated that approximately 1% of the total automotive service technicians, or 6,500, would be responsible for retrofitting the estimated 100,000 MVACs over the three-year term of this ICR.

EPA estimated the time to complete and apply the label at 5 minutes per MVAC, making the total burden 4500 hours over three years (1,500 hours per year). At an estimated average labor rate of $70 per hour, the overall cost associated with the burden hours is $315,000 over three years ($105,000 per year). The cost for designing, typesetting, printing and distributing 55,000 labels is estimated at $0.10 per label to be $5,500 ($1,833.33 per year). Adding the labor and capital costs together yields a total cost burden of $320,500 ($106,833.33 per year).

The Agency welcomes public comment on the number of CFC-12 MVACs that will undergo a retrofit, the number of MVAC service technicians performing such service, the average labor rate of MVAC service technicians from 2007 to 2010 and any other relevant information.

Are There Changes in the Estimates From the Last Approval?

Based on the decline of CFC-12 MVACs in service today EPA estimates a continued reduction in the number of CFC-12 MVACs retrofits that will occur during the next three years. EPA estimated that the total percent of CFC-12 MVACs retrofitted in 2003 was 1.5%, which equals an estimated 500,000 CFC-12 MVACs retrofitted to R-134a. EPA observed from MACS survey data that for each year, starting from 2003, an approximate decrease of 1% of retrofits occurred. Therefore, every three years, the amount of retrofits decreases approximately 3%. Based on this trend analysis, EPA estimated that the total percent CFC-12 MVACs retrofits for 2006, 2009, and 2012 are 0.5%, 0.2%, and a 0.1%, for an estimate of 62,000, 7,000 and 700, respectively. These reductions are due to the decrease of CFC-12 MVACs available on the road for retrofitting.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: February 16, 2010.
Brian J. McLean,
Director, Office of Atmospheric Programs.

[FR Doc. 2010-3363 Filed 2-19-10; 8:45 am]

BILLING CODE 6560-50-P